FEDERAL COMMUNICATIONS COMMISSION

47 CFR Part 32

[WC Docket No. 02-269; CC Docket No. 00-199; CC Docket No. 80-286; CC Docket No. 99-301; FCC 03-141]

Federal-State Joint Conference on Accounting Issues

AGENCY: Federal Communications Commission.

ACTION: Final rule; delay of effective date.

SUMMARY: This document further delays the effective date and the implementation of four previously adopted accounting and reporting rule changes from July 1, 2003, until January 1, 2004. The Commission extends the delay in order to avoid undue burdens associated with implementation of mid-year accounting and reporting requirement changes and to allow the Federal-State Joint Conference on Accounting Issues more time to formulate its recommendations to the Commission.

DATES: The effective date for amendments to 47 CFR 32.5200, 32.6562 and 32.6620 published at 67 FR 5670 (February 6, 2002) is further delayed until January 1, 2004.

FOR FURTHER INFORMATION CONTACT: Jane E. Jackson, Associate Chief, Wireline Competition Bureau, (202) 418-1500.

SUPPLEMENTARY INFORMATION: This is a summary of the Commission's Order adopted June 20, 2003, and released on June 24, 2003. The full text of the document is available for public inspection and copying during regular business hours at the FCC Reference Information Center, Portals II, 445 12th Street, SW., Room CY-A257, Washington, DC 20554. This document may also be purchased from the Commission's duplicating contractor, Qualex International, Portals II 445 12th Street, SW., Room CY-B402, Washington, DC 20554, telephone (202) 863-2893, facsimile (202) 863-2898, or via e-mail qualexint@aol.com.

Synopsis of Order

On November 12, 2002, the Commission released an order, 67 FR 77432 (December 18, 2002) further deferring until July 1, 2003, the effective date and implementation of four accounting and reporting requirement rule modifications previously adopted by the Commission as part of its biennial review of accounting requirements and Automated Reporting Management System (ARMIS) reporting requirements, Report and Order, 67 FR 5670 (February 6, 2002), delayed at 67 FR 20052 (April 24, 2003). The Commission deferred the implementation of these four accounting and reporting requirement rule modifications in order to allow the Federal-State Joint Conference on Accounting Issues time to consider these and other accounting issues in formulating their recommendations to the Commission. These accounting and reporting rule changes are as follows: (1) The consolidation of Accounts 6621 through 6623 into Account 6620, with subaccounts for wholesale and retail; (2) the consolidation of Account 5230, Directory revenue, into Account 5200, Miscellaneous revenue; (3) the consolidation of the depreciation and amortization expense accounts (Accounts 6561 through 6565) into Account 6562, Depreciation and amortization expenses; and (4) the revised “Loop Sheath Kilometers” data collection in Table II of ARMIS Report 43-07.

The Commission extends from July 1, 2003 to January 1, 2004, the current suspension of the implementation of these four accounting and reporting requirement rule modifications. The Commission extends the suspension in order to avoid undue burdens associated with implementation of mid-year accounting and reporting requirement changes on the affected carriers, the Commission, and state regulatory commissions and to allow the Federal-State Joint Conference on Accounting Issues more time to formulate its recommendations to the Commission.

List of Subjects in 47 CFR Part 32

Communications common carriers. Uniform System of Accounts.

Federal Communications Commission.
Marlene H. Dortch,
Secretary.

[FR Doc. 03-16323 Filed 6-27-03; 8:45 am]

BILLING CODE 6712-01-P